FEDERAL MARITIME COMMISSION

Security for the Protection of the Public Financial Responsibility to Meet Liability Incurred for Death or Injury to Passengers or Other Persons on Voyages; Notice of Issuance of Certificate (Casualty)

Notice is hereby given that the following have been issued a Certificate of Financial Responsibility to Meet Liability Incurred for Death or Injury to Passengers or Other Persons on Voyages pursuant to the provisions of section 2, Public Law 89-777 (46 U.S.C. 817(d)) and the Federal Maritime Commission's implementing regulations at 46 CFR Part 540, as amended:

American Classic Voyages Company, Project America, Inc. (d/b/a United States Lines) and Oceanic Ship Co.

1380 Port of New Orleans Place

New Orleans, LA 70130-1890

Vessel: PATRIOT

Carnival Corporation

3655 N.W. 87th Avenue

Miami, FL 33178-2193

Vessels: CARNIVAL SPIRIT, CARNIVAL TRIUMPH and CARNIVAL VICTORY

Celebrity Cruises, Inc. and Infinity Inc.

1050 Caribbean Way

Miami, FL 33132

Vessel: INFINITY

Clipper Cruise Line, Inc., New World Ship Management Company, LLC and Clipper Odyssey, Ltd.

7711 Bonhomme Avenue

St. Louis, MO 63105-1961

Vessel: CLIPPER ODYSSEY

Costa Cruise Lines N.V. and Costa Crociere S.p.A.

World Trade Center

80 S.W. 8th Street

Miami, FL 33130-3097

Vessels: COSTA ALLEGRA, COSTA ATLANTICA, COSTA CLASSICA, COSTA MARINA, COSTA RIVIERA, COSTA ROMANTICA and COSTA VICTORIA

Delphin Seereisen GmbH, Marine Trade Consulting GmbH and Dolphin Maritime Ltd.

Postfach 100407

Offenbach am Main 63004

Germany

Vessel: DELPHIN

Discovery Sun Cruises, Inc., Discovery Sun Partnership, Discovery Sun Tours, Ltd. and International Shipping Partners, Inc.

1775 N.W. 70th Avenue

Miami, FL 33126-1341

Vessel: DISCOVERY SUN

Hapag-Lloyd Kreuzfahrten GmbH, Hapag-Lloyd (Bahamas) Ltd., Hapag-Lloyd Container Linie GmbH and Columbia Shipmanagement Ltd.

Ballindamm 25 D-20079 Hamburg Germany

Vessel: BREMEN

Holland America Line-Westours, Inc., Holland America Line N.V. and HAL Antillen N.V.

300 Elliott Avenue West

Seattle, WA 98119

Vessel: AMSTERDAM

P & O Princess Cruises International Limited, Princess Cruise Lines, Ltd. and P & O Princess Cruises plc

Richmond House, Terminus Terrace

Southhampton S014 3PN

United Kingdom

Vessel: ARCADIA

P & O Princess Cruises International Limited and Princess Cruise Lines, Ltd.

Richmond House, Terminus Terrace

Southampton S014 3PN

United Kingdom

Vessels: AURORA and ORIANA

P & O Princess Cruises International Limited, Princess Cruise Lines, Ltd. and 3i plc

Richmond House, Terminus Terrace

Southampton S014 3PN

United Kingdom

Vessel: VICTORIA

Princess Cruise Lines, Ltd., Princess Cruises Ltd. and P & O Princess Cruises plc

24305 Town Center Drive

Santa Clarita, CA 91355

Vessels: CROWN PRINCESS and REGAL PRINCESS

Princess Cruise Lines, Ltd., Princess Cruises Ltd., Fairline Shipping Corporation, Ltd. and P & O Princess Cruises plc

24305 Town Center Drive

Santa Clarita, CA 91355

Vessel: DAWN PRINCESS

Princess Cruise Lines, Ltd., Princess Cruises Ltd., Fairline Shipping International Corporation, Ltd. and P & O Princess Cruises plc

24305 Town Center Drive

Santa Clarita, CA 91355

Vessel: GRAND PRINCESS

Princess Cruise Lines, Ltd., Princess Cruises Ltd., OP Shipping Corporation, Ltd. and P & O Princess Cruises plc

24305 Town Center Drive

Santa Clarita, CA 91355

Vessel: OCEAN PRINCESS

Princess Cruise Lines, Ltd., Princess Cruises Ltd., P & O Lines (Shipowners) Ltd., Abbey National March Leasing (1) Limited and P & O Princess Cruises plc

24305 Town Center Drive

Santa Clarita, CA 91355

Vessel: PACIFIC PRINCESS

Princess Cruise Lines, Ltd., Princess Cruises Ltd., P & O Lines (Shipowners) Ltd., Princess Tours Limited and P & O Princess Cruises plc

24305 Town Center Drive

Santa Clarita, CA 91355

Vessel: ROYAL PRINCESS

Princess Cruise Lines, Ltd., Princess Cruises Ltd., CP Shipping Corporation, Ltd. and P & O Princess Cruises plc

24305 Town Center Drive

Santa Clarita, CA 91355

Vessel: SEA PRINCESS

Princess Cruise Lines, Ltd., Princess Cruises Ltd., COROT Shipping Corp. (Sociedade Unipessoal) Lda. and P & O Princess Cruises plc

24305 Town Center Drive

Santa Clarita, CA 91355

Vessel: SUN PRINCESS

Radisson Seven Seas Cruises, Inc., Radisson Seven Seas (France) SNC and Copropriete du Navire Seven Seas Mariner

600 Corporate Drive, Suite 410

Fort Lauderdale, FL 33334

Vessel: SEVEN SEAS MARINER

Radisson Seven Seas Cruises, Inc., Celtic Pacific (UK) Two Limited, Capital Bank Leasing 12 Limited and Sovereign Financial Services (Manchester) Limited

600 Corporate Drive, Suite 410

Fort Lauderdale, FL 33334

Vessel: SEVEN SEAS NAVIGATOR

Royal Caribbean Cruises Ltd. and Explorer of the Seas Inc.

1050 Caribbean Way

Miami, FL 33132-2096

Vessel: EXPLORER OF THE SEAS

Royal Caribbean Cruises Ltd. and Radiance of the Seas Inc.

1050 Caribbean Way

Miami, FL 33132-2096

Vessel: RADIANCE OF THE SEAS

Royal Caribbean Cruises Ltd. and Sunshine Cruises Limited

1050 Caribbean Way

Miami, FL 33132-2096

Vessel: VIKING SERENADE

Royal Olympic Cruises Ltd., RO Cruises Inc. and Olympic World Cruises Inc.

805 3rd Avenue, 18th Floor

New York, NY 10022

Vessel: OLYMPIC VOYAGER

Silversea Cruises, Ltd. and Silversea New Build One Ltd.

110 East Broward Blvd.

Fort Lauderdale, FL 33301

Vessel: SILVER SHADOW

World Explorer Cruises, Inc., Azure Investments, Inc., Institute for Shipboard Education, Inc., and Seawise Foundation, Inc.

555 Montgomery Street, #1412

San Francisco, CA 94111-2544

Vessel: UNIVERSE EXPLORER

Dated: March 23, 2001.
Bryant L. VanBrakle,
Secretary.

[FR Doc. 01-7686 Filed 3-28-01; 8:45 am]

BILLING CODE 6730-01-P